COMMITTEE FOR THE IMPLEMENTATION OF TEXTILE AGREEMENTS

Determination Under the Textile and Apparel Commercial Availability Provision of the Dominican Republic-Central America-United States Free Trade Agreement (“CAFTA-DR”)

AGENCY: The Committee for the Implementation of Textile Agreements.

ACTION: Determination to add a product in unrestricted quantities to Annex 3.25 of the CAFTA-DR.

SUMMARY: The Committee for the Implementation of Textile Agreements (“CITA”) has determined that certain 100 percent monofilament yarn, as specified below, is not available in commercial quantities in a timely manner in the CAFTA-DR countries. The product is added to the list in Annex 3.25 of the CAFTA-DR in unrestricted quantities.

DATES:

Applicable Date: July 23, 2025.

ADDRESSES: https://otexaprod.trade.gov/otexacapublicsite/requests/cafta under “Approved Requests,” File Number: CA2025003.

FOR FURTHER INFORMATION CONTACT: Kayla Johnson, Office of Textiles and Apparel, U.S. Department of Commerce, (202) 482-2532 or Kayla.Johnson@trade.gov.

SUPPLEMENTARY INFORMATION:

Authority: The CAFTA-DR; Section 203(o)(4) of the Dominican Republic-Central America-United States Free Trade Agreement Implementation Act (“CAFTA-DR Implementation Act”), Public Law 109-53; the Statement of Administrative Action accompanying the CAFTA-DR Implementation Act; and Presidential Proclamation 7987 (February 28, 2006).

Background: The CAFTA-DR provides a list in Annex 3.25 for fabrics, yarns, and fibers that the Parties to the CAFTA-DR have determined are not available in commercial quantities in a timely manner in the territory of any Party. The CAFTA-DR provides that this list may be modified pursuant to Article 3.25.4, when the United States determines that a fabric, yarn, or fiber is not available in commercial quantities in a timely manner in the territory of any Party. See Annex 3.25 of the CAFTA-DR; see also section 203(o)(4)(C) of the CAFTA-DR Implementation Act.

The CAFTA-DR Implementation Act requires the President to establish procedures governing the submission of a request and providing opportunity for interested entities to submit comments and supporting evidence before a commercial availability determination is made. In Presidential Proclamation 7987, the President delegated to CITA the authority under section 203(o)(4) of CAFTA-DR Implementation Act for modifying the Annex 3.25 list. Pursuant to this authority, on September 15, 2008, CITA published modified procedures it would follow in considering requests to modify the Annex 3.25 list of products determined to be not commercially available in the territory of any Party to the CAFTA-DR (Modifications to Procedures for Considering Requests Under the Commercial Availability Provision of the Dominican Republic-Central America-United States Free Trade Agreement, 73 FR 53200) (“CITA's Procedures”).

On June 12, 2025, CITA received a Commercial Availability Request (“Request”) from Fechheimer Brothers Co. (“Fechheimer”) for certain 100 percent polyester monofilament yarn, as specified below. On June 16, 2025, in accordance with CITA's Procedures, CITA notified interested parties of the Request, which was posted on the dedicated website for CAFTA-DR Commercial Availability proceedings. In its notification, CITA advised that any Response with an Offer to Supply (“Response”) must be submitted by June 26, 2025, and any Rebuttal to a Response (“Rebuttal”) must be submitted by July 2, 2025, in accordance with sections 6 and 7 of CITA's Procedures. No interested entity submitted a Response to the Request advising CITA of its objection to the Request with an offer to supply the subject product.

In accordance with section 203(o)(4)(C) of the CAFTA-DR Implementation Act, and section 8(c)(2) of CITA's Procedures, as no interested entity submitted a Response objecting to the Request and providing an offer to supply the subject product, CITA has determined to add the specified yarn to the list in Annex 3.25 of the CAFTA-DR.

The subject product has been added to the list in Annex 3.25 of the CAFTA-DR Agreement in unrestricted quantities. A revised list has been posted on the dedicated website for CAFTA-DR Commercial Availability proceedings, at https://otexaprod.trade.gov/otexacapublicsite/shortsupply/cafta.

Specifications: Certain 100 Percent Polyester Monofilament Yarn

HTS: 5402.33.3000.

Yarn Description: 30d monofilament polyester.

Fiber Content: 100% Polyester.

Number of Plies: One.

Yarn Size: 30 Denier (33.33 decitex) +/− 2 Denier (2.22 decitex) Tolerance.

Filaments: One.

Joshua Kroon,
Chairman, Committee for the Implementation of Textile Agreements.

[FR Doc. 2025-13837 Filed 7-22-25; 8:45 am]

BILLING CODE 3510-DR-P